FEDERAL COMMUNICATIONS COMMISSION

[AU Docket No. 14-252; DA 16-7]

Instructions for FCC Form 175 Application to Participate in the Forward Auction (Auction 1002)

AGENCY: Federal Communications Commission.

ACTION: Notification of application instructions.

SUMMARY: The broadcast incentive auction (Auction 1000) is composed of a reverse auction (Auction 1001) and a forward auction (Auction 1002). This document provided information on and filing instructions for completing FCC Form 175, the application for parties seeking to participate in the forward auction (Auction 1002).

DATES: The forward auction FCC Form 175 filing window opens at 12:00 p.m. Eastern Time (ET) on January 26, 2016, and closes at 6:00 p.m. ET on February 9, 2016.

FOR FURTHER INFORMATION CONTACT: Wireless Telecommunications Bureau, Auctions and Spectrum Access Division: for general forward auction questions Leslie Barnes or Valerie Barrish at (202) 418-0660.

SUPPLEMENTARY INFORMATION: This is a summary of the Application Instructions for Broadcast Incentive Auction Scheduled to Begin on March 29, 2016; Instructions for FCC Form 175 Application to Participate in the Forward Auction (Auction 1002) (Forward Auction 1002 FCC Form 175 Instructions Public Notice), AU Docket No. 14-252, DA 16-7, released on January 19, 2016. The complete text of the Forward Auction 1002 FCC Form 175 Instructions Public Notice is available for public inspection and copying from 8:00 a.m. to 4:30 p.m. Eastern Time (ET) Monday through Thursday or from 8:00 a.m. to 11:30 a.m. ET on Fridays in the FCC Reference Information Center, 445 12th Street SW., Room CY-A257, Washington, DC 20554. The complete text is also available on the Commission's Web site at http://wireless.fcc.gov, the Auction 1002 Web site at http://www.fcc.gov/auctions/1002, or by using the search function on the ECFS Web page at http://www.fcc.gov/cgb/ecfs/. Alternative formats are available to persons with disabilities by sending an email to FCC504@fcc.gov or by calling the Consumer & Governmental Affairs Bureau at (202) 418-0530 (voice), (202) 418-0432 (TTY).

General Information

The Forward Auction 1002 FCC Form 175 Instructions Public Notice provides the filing instructions for the electronic FCC Form 175, the application for parties seeking to participate in the forward auction. When filing out an FCC Form 175, a prospective forward auction applicant should follow the step-by-step filing instructions in the attachment to the Forward Auction 1002 FCC Form 175 Instructions Public Notice, along with the Auction 1000 Application Procedures Public Notice, 80 FR 66429, October 29, 2015. Each prospective applicant should also reference other public notices and/or decisions that have been issued in this proceeding, any future public notices and/or decisions that may be issued in this proceeding, and any other relevant public notices and/or decisions issued by the Commission in other proceedings that may relate to the incentive auction. Additional guidance, data, and information related to the incentive auction are available on the Auction 1000 Web site (http://www.fcc.gov/auctions/1000). A pre-auction process tutorial for the forward auction is available on the Auction 1002 Web site (http://www.fcc.gov/auctions/1002) to assist applicants with completing their applications.

Federal Communications Commission.
Gary D. Michaels,
Deputy Chief, Auctions and Spectrum Access Division, WTB.

[FR Doc. 2016-01484 Filed 1-22-16; 11:15 am]

BILLING CODE 6712-01-P